DEPARTMENT OF TRANSPORTATION

Office of the Secretary

Application of Swift Air, LLC for Certificate Authority

AGENCY: Department of Transportation.

ACTION: Notice of order to show cause (Order 2006-9-10), Dockets OST-2005-22880 and OST 2005-23329.

SUMMARY: The Department of Transportation is directing all interested persons to show cause why it should not issue orders finding Swift Air, LLC fit, willing, and able, and awarding it certificates of public convenience and necessity to engage in interstate and foreign charter air transportation of persons, property and mail.

DATES: Persons wishing to file objections should do so no later than September 27, 2006.

ADDRESSES: Objections and answers to objections should be filed in Dockets OST-2005-22880 and OST 2005-23329, and addressed to U.S. Department of Transportation, Docket Operations, (M-30, Room PL-401), 400 Seventh Street, SW., Washington, DC 20590, and should be served upon the parties listed in Attachment A to the order.

FOR FURTHER INFORMATION CONTACT: Ronâle Taylor, Air Carrier Fitness Division (X-56, Room 6401), U.S. Department of Transportation, 400 Seventh Street, SW., Washington, DC 20590, (202) 366-9721.

Dated: September 13, 2006.
Michael W. Reynolds,
Acting Assistant Secretary for Aviation and International Affairs.

[FR Doc. 06-7743 Filed 9-18-06; 8:45 am]

BILLING CODE 4910-9X-P